ENVIRONMENTAL PROTECTION AGENCY

[ER-FRL-8997-2]

Environmental Impacts Statements; Notice of Availability

Responsible Agency: Office of Federal Activities, General Information (202) 564-1399 or http://www.epa.gov/compliance/nepa/.

Weekly Receipt of Environmental Impact Statements Filed 05/16/2011 Through 05/20/2011 Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

Pursuant to 40 CFR 1506.9.

EIS No. 20110158, Draft EIS, FHWA, CA, State Route 91 Corridor Improvement Project, Proposes Widening, Including the Construction of one Mixed-Flow Lane in each Direction between State 91 and Interstate 15, Riverside and Orange County, CA, Comment Period Ends: 07/11/2011, Contact: Aaron Burton 909-383-2841.

EIS No. 20110159, Final EIS, USFS, CA, Big Pony Project, Proposes to Reduce Fire Hazard to Permanent Research Plots and to Areas within and Adjacent to Wildland Urban Interface near Tennant, Goosenest Ranger District, Klamath National Forest, Siskiyou County, CA, Review Period Ends: 06/27/2011, Contact: Wendy Coats 530-841-4470.

EIS No. 20110160, Final EIS, USACE, CA, Folsom South of U.S. 50 Specific Plan Project, Proposed land Use Development in the Specific Plan Area, City of Folsom, Sacramento County, CA, Review Period Ends: 06/27/2011, Contact: Lisa M. Gibson 916-557-5288.

EIS No. 20110161, Final Supplement, USFS, CA, Salt Timber Harvest and Fuel Hazard Reduction Project, Additional Analysis and Supplemental Information, Proposing Vegetation Management in the Salt Creek Watershed, South Fork Management Unit, Hayfork Ranger District, Shasta-Trinity National Forest, Trinity County, CA, Review Period Ends: 06/27/2011, Contact: Joshua Wilson 530-226-2422.

EIS No. 20110162, Draft EIS, FHWA, IL, U.S. 30 Transportation Improvement Project, from Illinois 136 to Illinois 40. Federal Aid Primary (FAP) Route 309, Whiteside County, IL, Comment Period Ends: 07/29/2011, Contact: Eric S. Therkidsen, P.E. 815-284-2271.

EIS No. 20110163, Final EIS, USFS, OR, Howard Elliot Johnson Fuel and Vegetation Management Project, Proposed Fuels and Vegetation Treatments Reduce the Risk of Stand Loss Due to Overly Dense Stand Condition, Crook County, OR, Review Period Ends: 06/27/2011, Contact: Marcy Anderson 541-416-6463.

EIS No. 20110164, Revised Draft EIS, BOEMRE, AK, Chukchi Sea Planning Area, Oil and Gas Lease Sale 193, Revised Information, Analyzing the Environmental Impact of Natural Gas Development and Evaluate Incomplete, Missing, and Unavailable Information, Chukchi Sea, Alaska Outer Continental Shelf, AK, Comment Period Ends: 07/11/2011, Contact: Tim Holder 703-787-1744.

EIS No. 20110165, Third Final EIS (Tiering), USFS, OR, Mt. Ashland Ski Area Expansion, To Address Matters Identified by the Ninth Circuit Court of Appeals for the Existing 2004 FEIS, Ashland Ranger District, Rogue River National Forest and Scott River Ranger District, Klamath National Forest, Jackson County, OR, Review Period Ends: 06/27/2011, Contact: Steve Johnson 541-552-2900.

EIS No. 20110166, Final EIS, USFS, CA, Fish Camp Project, Proposes to Create a Network of Landscape Area Treatments and Defensible Fuel, Sierra National Forest, Bass Lake Ranger District, Madera and Mariposa Counties, CA, Review Period Ends: 06/27/2011, Contact: Mark Lemon 559-877-2218 Ext. 3110.

Dated: 05/24/2011.
Robert W. Hargrove,
Director, NEPA Compliance Division, Office of Federal Activities.

[FR Doc. 2011-13249 Filed 5-26-11; 8:45 am]

BILLING CODE 6560-50-P